DEPARTMENT OF COMMERCE

International Trade Administration

[C-489-836]

Dried Tart Cherries From the Republic of Turkey: Postponement of Preliminary Determination in the Countervailing Duty Investigation

AGENCY: Enforcement and Compliance, International Trade Administration, Department of Commerce.

DATES: Applicable July 3, 2019.

FOR FURTHER INFORMATION CONTACT: Ajay Menon or Maria Tatarska, AD/CVD Operations, Office II, Enforcement and Compliance, International Trade Administration, U.S. Department of Commerce, 1401 Constitution Avenue NW, Washington, DC 20230; telephone: (202) 482-1993 or (202) 482-1562, respectively

SUPPLEMENTARY INFORMATION:

Background

On May 13, 2019, the Department of Commerce (Commerce) initiated a countervailing duty (CVD) investigation of imports of dried tart cherries from the Republic of Turkey.¹ Currently, the preliminary determination is due no later than July 17, 2019.

¹ See Dried Tart Cherries from the Republic of Turkey: Initiation of Countervailing Duty Investigation, 84 FR 22813 (May 20, 2019).

Postponement of Preliminary Determination

Section 703(b)(1) of the Tariff Act of 1930, as amended (the Act), requires the Department to issue the preliminary determination in a countervailing duty investigation within 65 days after the date on which Commerce initiated the investigation. However, section 703(c)(1) of the Act permits Commerce to postpone the preliminary determination until no later than 130 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the Dried Tart Cherry Trade Committee.

On June 6, 2019, the petitioner submitted a timely request that Commerce postpone the preliminary CVD determination.³ The petitioner stated that it requests postponement to provide Commerce with time to fully analyze the respondents' questionnaire responses and to allow Commerce and interested parties sufficient time to review the questionnaire responses for deficiencies and request clarification and additional information, as necessary.⁴ In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., September 20, 2019. Pursuant to section 705(a)(1) of the Act and 19 CFR 351.210(b)(1), the deadline for the final determination of this investigation will continue to be 75 days after the date of the preliminary determination.

³ See the Petitioner's Letter titled, “Dried Tart Cherries from Turkey: Request to Extend the Preliminary Determination Deadline,” dated June 6, 2019.

⁴ Id.

Notification to Interested Parties

This notice is issued and published pursuant to section 703(c)(2) of the Act and 19 CFR 351.205(f)(1).

Dated: June 26, 2019.
Jeffrey I. Kessler,
Assistant Secretary for Enforcement and Compliance.

[FR Doc. 2019-14236 Filed 7-2-19; 8:45 am]

BILLING CODE 3510-DS-P